DEPARTMENT OF THE INTERIOR

Fish and Wildlife Service

[FWS-R8-ES-2009-N267; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before January 15, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-148556

Applicant: Deborah M. Van Dooremolen, Las Vegas, Nevada. The applicant requests an amendment to an existing permit (April 9, 2007; 72 FR 17576) to take (harass by survey) the southwestern willow flycatcher (Empidonax trailli extimus) in conjunction with surveys in Clark County, Nevada, for the purpose of enhancing its survival.

Permit No. TE-231424

Applicant: Seth A. Shanahan, Las Vegas, Nevada. The applicant requests a permit to take (harass by survey) the southwestern willow flycatcher (Empidonax trailli extimus) and Yuma clapper rail (Rallus longirostris yumanensis) in conjunction with surveys in Clark County, Nevada, for the purpose of enhancing their survival.

Permit No. TE-231425

Applicant: Robert C. Fletcher, San Diego, California. The applicant requests a permit to take (survey by pursuit) the Quino checkerspot butterfly (Euphydryas editha quino) in conjunction with surveys throughout the range of the species in California for the purpose of enhancing its survival.

Permit No. TE-231427

Applicant: John R. Ivanov, Pasadena, California. The applicant requests a permit to take (harass by survey and monitor nests) the southwestern willow flycatcher (Empidonax trailli extimus) and least Bell's vireo (Vireo bellii pusillus) in conjunction with surveys and population monitoring throughout the range of each species in California for the purpose of enhancing their survival.

Permit No. TE-170381

Applicant: Bill Stagnaro, San Francisco, California. The applicant requests an amendment to an existing permit (February 13, 2008; 73 FR 8344) to take (harass by survey) the light-footed clapper rail (Rallus longirostris levipes), the California clapper rail (Rallus longirostris obsoletus), and the Yuma clapper rail (Rallus longirostris yumanensis) in conjunction with surveys throughout the range of the species in California, Nevada, Arizona, and Utah for the purpose of enhancing their survival.

Permit No. TE-802089

Applicant: Patricia Tatarian, Santa Rosa, California. The applicant requests an amendment to an existing permit (November 7, 2002; 67 FR 67863) to take (attach radio transmitters, radio track, release, collect voucher specimens; and construct, place, and monitor artificial egg laying structures in the wild) the California tiger salamander (Ambystoma californiense) in conjunction with research, surveys, and population monitoring activities throughout the range of the species in California for the purpose of enhancing its survival.

Permit No. TE-231612

Applicant: James M. Steele, Clearlake Oaks, California. The applicant requests a permit to take (survey, capture, handle, translocate, and release) the San Francisco garter snake (Thamnophis sirtalis) in conjunction with surveys and habitat enhancement activities in San Mateo County, California, for the purpose of enhancing its survival.

Permit No. TE-012973

Applicant: ECORP Consulting Incorporated, Rocklin, California. The applicant requests an amendment to an existing permit issued on June 14, 1999, to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California. The applicant is requesting to take (collect soil containing Federally listed fairy shrimp cysts of the above-mentioned species, translocate, and inoculate cysts into restored vernal pools) in conjunction with vernal pool restoration and population enhancement activities throughout the range of each species in California for the purpose of enhancing their survival.

Permit No. TE-233291

Applicant: Margaret R. Mulligan, San Diego, California. The applicant requests a permit to take (survey by pursuit) the Quino checkerspot butterfly (Euphydryas editha quino) in conjunction with surveys throughout the range of the species in California for the purpose of enhancing its survival.

Permit No. TE-797267

Applicant: H.T. Harvey and Associates, Los Gatos, California. The applicant requests an amendment to an existing permit (February 16, 1996; 61 FR 6253) to take (capture, measure, hair-clip, and release) the giant kangaroo rat (Dipodomys ingens), and take Tipton kangaroo rat (Dipodomys nitratoides nitratoides) and Fresno kangaroo rat (Dipodomys nitratoides exilis) in conjunction with surveys and population studies throughout the range of each species in California for the purpose of enhancing their survival.

Permit No. TE-233332

Applicant: Maya E. Mazon, Oceanside, California. The applicant requests a permit to take (survey by pursuit) the Quino checkerspot butterfly (Euphydryas editha quino) in conjunction with surveys throughout the range of the species in California for the purpose of enhancing its survival.

Permit No. TE-233331

Applicant: Bureau of Land Management, Arcata, California. The applicant requests a permit to remove/reduce to possession Erysimum menziesii ssp. eurekense (Humboldt Bay wallflower), Layia carnosa (beach layia), and Arabis macdonaldiana (McDonald's rockcress) from Federal lands in conjunction with botanical surveys and voucher/seed bank collection activities in Arcata County, California, for the purpose of enhancing their survival.

Permit No. TE-233367

Applicant: Laura E. Gorman, Redondo Beach, California. The applicant requests a permit to take (survey by pursuit) the Quino checkerspot butterfly (Euphydryas editha quino) in conjunction with surveys throughout the range of the species in California for the purpose of enhancing its survival.

Permit No. TE-233373

Applicant: Mary Anne Flett, Pt. Reyes Station, California. The applicant requests a permit to take (harass by survey) the California clapper rail (Rallus longirostris obsoletus) in conjunction with surveys and population monitoring studies in Alameda, Contra Costa, Marin, Napa, San Francisco, San Mateo, Santa Clara, Solano, and Sonoma Counties, California, for the purpose of enhancing its survival.

We invite public review and comment on each of these recovery permit applications. Comments and materials we receive will be available for public inspection, by appointment, during normal business hours at the address listed in the ADDRESSES section of this notice.

Dated: December 10, 2009.
Michael Long,
Regional Director, Region 8, Sacramento, California.

[FR Doc. E9-29867 Filed 12-15-09; 8:45 am]

BILLING CODE 4310-55-P